DEPARTMENT OF THE INTERIOR

Minerals Management Service

Outer Continental Shelf (OCS), Alaska OCS Region, Cook Inlet Oil and Gas Sale 199, May 2006

AGENCY: Minerals Management Service (MMS), Interior.

ACTION: Request for Information (RFI) and Notice of Intent (NOI) to prepare an Environmental Assessment.

SUMMARY: The Secretary's approved 5-Year OCS Oil and Gas Leasing Program for 2002-2007 provides for two sales, Sales 191 and 199, to be held in the Cook Inlet program area. An Environmental Impact Statement (EIS) that covered both sales was prepared. For Sale 199 an Environmental Assessment will be prepared and, if significant effects are found, a supplemental EIS will also be written. In addition, a federal consistency determination (CD) under the Coastal Zone Management Act will be prepared, as well as a proposed and final notice of sale.

The RFI and a NOI to prepare an EIS for Sales 191 and 199 was published in the Federal Register on December 31, 2001, at 66 FR 67543. The Cook Inlet final EIS for Sales 191 and 199 was released in November 2003 (OCS EIS/EA, MMS 2003-055). The first sale, Sale 191, was held on May 19, 2004; however, the sale received no bids. The MMS is now initiating a Request for Information for Cook Inlet Sale 199.

Comment Period: Comments on the RFI and on the NOI must be received no later than 45 days following publication of this document in the Federal Register. If you wish to comment, you may submit your comments by any one of the following methods:

• You may mail comments to the Alaska OCS Region, Minerals Management Service, 3801 Centerpoint Drive, Suite 500, Anchorage, Alaska 99503, in envelopes labeled “Attn: Comments on Request for Information for Cook Inlet Sale 199” or “Attn: Comments on Notice of Intent to Prepare an Environmental Assessment for Cook Inlet Sale 199,” as appropriate.

• You may fax your comments to MMS at (907) 334-5242.

• You may also comment using Public Connect at: https://ocsconnect.mms.gov/pcs-public.

• Finally, you may hand-deliver comments weekdays between 8 AM and 5 PM to the Alaska OCS Region, Minerals Management Service, 3801 Centerpoint Drive, Suite 500, Anchorage, Alaska 99503.

FOR FURTHER INFORMATION CONTACT: Please contact Fred King at (907) 334-5271 in MMS's Alaska OCS Region regarding questions on the RFI/NOI to prepare an Environmental Assessment.

SUPPLEMENTARY INFORMATION: The environmental analysis for Sale 199 will focus primarily on new issues that may have arisen since the completion of the EIS for Sales 191 and 199 (November 2003). A consistency determination will be prepared for the sale and will include analysis of any approved changes that may have occurred in the State's coastal management plan. The process will lead to identification of the area to be included in the proposed Notice of Sale. Each of these steps, including the proposed Notice of Sale, provides for a public review period. At the culmination of each step and after analysis of any public comments, the MMS will decide whether to proceed to the next step. This process will:

• Focus the environmental analysis on impact types and levels that may have changed since the analysis was done for Sale 191;

• Clearly highlight any new issues for the public;

• Eliminate the need for costly preparation and public review of a repetitive, voluminous new EIS for Sale 199; and

• Result in a more efficient and responsive application of the National Environmental Policy Act (NEPA).

The MMS will analyze all comments received in response to this RFI and re-examine information previously submitted in response to the Call and the draft and final EISs for Sales 191 and 199. The MMS will then identify the issues to be analyzed in the NEPA document.

This RFI does not indicate a decision to lease in the area described below. Final delineation of the areas for possible leasing will be made after completion of the pre-sale steps described above and in compliance with the current 5-year program and applicable laws, including all requirements of the NEPA and the OCS Lands Act.

Request for Information

1. Authority

This RFI is published pursuant to the OCS Lands Act, as amended (43 U.S.C. 1331-1356, (1994)) (OCS Lands Act), and the regulations issued thereunder (30 CFR 256); and in accordance with the 5-Year OCS Oil and Gas Leasing Program 2002 to 2007.

2. Purpose of Request

The purpose of the RFI is to gather information for Oil and Gas Lease Sale 199 in the Cook Inlet, scheduled for May 2006. Information on oil and gas leasing, exploration, and development and production within the Cook Inlet are sought from all interested parties. This early planning and consultation step is important for ensuring that all interests and concerns are communicated to the Department of the Interior for decisions in the leasing process.

The Call for Information and Nominations published in the Federal Register on December 31, 2001, requested information and nominations from industry for Sales 191 and 199 in the Cook Inlet Planning Area. The MMS will use the information submitted in response to that Call and any new information submitted in response to this RFI to determine the area that will be included in a NEPA analysis. The public need not re-submit comments sent in response to the multiple-sale Call. A company need not re-submit its areas of interest if its comments or indications of interest have not changed since that time. This request seeks to identify new concerns and new areas of interest to industry.

3. Description of Area

The area covered by this RFI is located offshore the State of Alaska in the Cook Inlet Planning Area. This area consists of approximately 517 whole and partial blocks (about 2.5 million acres). A page-size map of the area accompanies this Notice. A large scale RFI map showing the boundaries of the area on a block-by-block basis is available without charge from the Records Manager at the address given below, or by telephone request at (907) 334-5207 or 1-800-764-2627. Copies of Official Protraction Diagrams (OPDs) are also available at the following location: Alaska OCS Region, Minerals Management Service, 3801 Centerpoint Drive, Suite 500, Anchorage, Alaska, 99503.

In addition, the OPDs are available on the MMS Web site at http://www.mms.gov/ld/alaska.htm.

4. Instructions on Request for Information

The RFI map delineates the area that is the subject of this request. Respondents are requested to indicate interest in and comment on any or all of the Federal acreage within the boundaries of the RFI area that they wish to have included in Cook Inlet Sale 199. Comments should be sent to the Regional Supervisor, Leasing and Environment, Alaska OCS Region, at the address or Public Connect Web site as stated above in the comment period section.

Our practice is to make comments, including names and addresses of respondents, available for public review during regular business hours. Individual respondents may request that we withhold their address from the rulemaking record, which we will honor to the extent allowable by law. Under some circumstances, MMS may withhold a respondent's identity, as allowable by law. If you wish us to withhold your name and/or address, you must state this prominently at the beginning of your comment. However, we will not consider anonymous comments. We will make all submissions from organizations or businesses, and from individuals identifying themselves as representatives or officials of organizations or businesses, available for public inspection in their entirety.

A. Areas of Interest to the Oil and Gas Industry

The MMS requests industry to submit any new information, including nomination of blocks that are of significant interest for exploration and development and production. Information and nominations submitted in response to the multiple-sale Call for Sales 191 and 199, published on December 31, 2001 (66 FR 67543), will also be considered as information and nominations for the Sale 199 area identification process.

Nominations must be depicted on the RFI map by outlining the area(s) of interest along block lines. Nominators are asked to submit a list of whole and partial blocks nominated (by OPD and block number) to facilitate correct interpretation of their nominations on the Request for Information map. Although the identities of those submitting nominations become a matter of public record, the individual nominations are proprietary information.

Nominators also are requested to rank blocks nominated according to priority of interest [e.g., priority 1 (high), or 2 (medium)]. Blocks nominated that do not indicate priorities will be considered priority 3 (low). Nominators must be specific in indicating blocks by priority and be prepared to discuss their range of interest and activity regarding the nominated area(s). The telephone number and name of a person to contact in the nominator's organization for additional information should be included in the response. This person will be contacted to set up a mutually agreeable time and place for a meeting with the Alaska OCS Regional Office to present their views regarding the company's nominations.

B. Relation to Coastal Management Plans

Comments also are sought on potential conflicts with approved local coastal management plans that may result from the sale and future OCS oil and gas activities. These comments should identify specific coastal management plan policy of concern, the nature of the conflicts foreseen, and steps that MMS could take to avoid or mitigate the potential conflicts. Comments may be in terms of broad areas or restricted to particular blocks of concern. Commenters are requested to list block numbers or outline the subject area on the large-scale RFI map.

5. Use of Information From the Request for Information

Information submitted in response to this RFI will be used for several purposes. Responses will be used to:

• Help to further identify areas of potential oil and gas development;

• Identify environmental effects and potential use conflicts not previously addressed in the Final EIS and Consistency Determination for Sales 191 and 199 (OCS EIS/EA, MMS 2003-055);

• Develop any additional lease terms and conditions/mitigating measures that may be necessary; and

• Identify any potential conflicts between oil and gas activities and the Alaska coastal management plan not addressed in the Consistency Determination for Sale 191.

6. Existing Information

The MMS has acquired a substantial amount of information, including that gained through the use of traditional knowledge, on the issues and concerns related to oil and gas leasing in the Cook Inlet.

An extensive environmental, social, and economic studies program has been underway in this area since 1975. The emphasis has been on geologic mapping, environmental characterization of biologically sensitive habitats, endangered whales and marine mammals, physical oceanography, ocean-circulation modeling, and ecological and socio-cultural effects of oil and gas activities.

Information on the studies program, completed studies, and a program status report for continuing studies in this area is available on the MMS Web site http://www.mms.gov/alaska, or may be obtained from the Chief, Environmental Studies Section, Alaska OCS Region, by telephone request at (907) 334-5230, or by written request at the address stated under Description of Area. A request may also be made via the Alaska OCS Region Web site at http://www.mms.gov/alaska/ref/pubindex/pubsindex.htm.

7. Tentative Schedule

The following is a list of tentative milestone dates applicable to Cook Inlet Sale 199 covered by this RFI:

Request for Information published—December 2004

Area Identification—February 2005

National Environmental Policy Act/Environmental Assessment Review (or Supplemental EIS) published—October 2005

Proposed Notice and Consistency Determination—December 2005

Final Notice of Sale—April 2006

Tentative Sale Date—May 2006

Notice of Intent To Prepare an Environmental Analysis

1. Authority

The NOI is published pursuant to the regulations (40 CFR 1501.7) implementing the provisions of the National Environmental Policy Act of 1969 as amended [42 U.S.C. 4321 et seq. (1988)].

2. Purpose of Notice of Intent

Pursuant to the regulations (40 CFR 1501.7) implementing the procedural provisions of the National Environmental Policy Act of 1969 (42 U.S.C. 4321 et seq.), MMS is announcing its intent to prepare an environmental assessment for Cook Inlet Oil and Gas Lease Sale 199, scheduled for May 2006. The environmental assessment will be prepared to determine if significant new issues or impacts not previously addressed in the EIS for Sales 191 and 199 have arisen. If no significant new issues or impacts are identified, a Finding of No New Significant Impacts will be issued. If information is submitted in response to this Request for Information or found by MMS analysts that identifies environmentally significant new issues and/or impacts not previously addressed, a supplemental EIS may be prepared.

3. Instructions on Notice of Intent

Federal, State, Tribal, and local governments and other interested parties are requested to send their written comments on new information and issues that should be addressed in the environmental assessment to the Regional Supervisor, Leasing and Environment, Alaska OCS Region, at the address or Public Connect Web site as stated above in the comment period section.

Dated: December 13, 2004.
Johnnie Burton,
Director, Minerals Management Service.

BILLING CODE 4310-MR-P

[FR Doc. 04-28102 Filed 12-23-04; 8:45 am]

BILLING CODE 4310-MR-C